DEPARTMENT OF TRANSPORTATION

Federal Aviation Administration

14 CFR Part 39

[Docket No. FAA-2025-1119; Project Identifier MCAI-2025-00914-G; Amendment 39-23074; AD 2025-13-08]

RIN 2120-AA64

Airworthiness Directives; DG Aviation GmbH (Type Certificate Previously Held by DG Flugzeugbau GmbH) Gliders

AGENCY: Federal Aviation Administration (FAA), DOT.

ACTION: Final rule; request for comments.

SUMMARY: The FAA is adopting a new airworthiness directive (AD) for all DG Aviation GmbH (type certificate previously held by DG Flugzeugbau GmbH) Model DG-1000T gliders. This AD was prompted by reports of propeller separation. This AD requires revising the glider flight manual and installing “Motor INOP” placards to prohibit operation with the powerplant. The FAA is issuing this AD to address the unsafe condition on these products.

DATES: This AD is effective July 25, 2025.

The Director of the Federal Register approved the incorporation by reference of a certain publication listed in this AD as of July 25, 2025.

The FAA must receive comments on this AD by August 25, 2025.

ADDRESSES: You may send comments, using the procedures found in 14 CFR 11.43 and 11.45, by any of the following methods:

• Federal eRulemaking Portal: Go to regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2025-1119; or in person at Docket Operations between 9 a.m. and 5 p.m., Monday through Friday, except Federal holidays. The AD docket contains this final rule, the mandatory continuing airworthiness information (MCAI), any comments received, and other information. The street address for Docket Operations is listed above.

Material Incorporated by Reference:

• For DG Aviation GmbH material identified in this AD, contact DG Aviation GmbH, Rita Rodrigues, Otto Lilienthal Weg 2/Am Flugplatz, Bruchsal, Germany; phone: +49 (0) 7251 36660-32; email: rodrigues@dg-aviation.de; website: https://www.dg-aviation.de/en/dg-flugzeugbau/contact.

• You may view this material at the FAA, Airworthiness Products Section, Operational Safety Branch, 901 Locust, Kansas City, MO 64106. For information on the availability of this material at the FAA, call (817) 222-5110. It is also available at regulations.gov under Docket No. FAA-2025-1119.

FOR FURTHER INFORMATION CONTACT: Dan McCully, Aviation Safety Engineer, FAA, 1600 Stewart Avenue, Suite 410, Westbury, NY 11590; phone: (404) 474-5548; email: william.mccully@faa.gov.

SUPPLEMENTARY INFORMATION:

Comments Invited

The FAA invites you to send any written data, views, or arguments about this final rule. Send your comments using a method listed under the ADDRESSES section. Include “Docket No. FAA-2025-1119; Project Identifier MCAI-2025-00914-G” at the beginning of your comments. The most helpful comments reference a specific portion of the final rule, explain the reason for any recommended change, and include supporting data. The FAA will consider all comments received by the closing date and may amend this final rule because of those comments.

Except for Confidential Business Information (CBI) as described in the following paragraph, and other information as described in 14 CFR 11.35, the FAA will post all comments received, without change, to regulations.gov, including any personal information you provide. The agency will also post a report summarizing each substantive verbal contact received about this final rule.

Confidential Business Information

CBI is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent to Dan McCully, Aviation Safety Engineer, FAA, 1600 Stewart Avenue, Suite 410, Westbury, NY 11590. Any commentary that the FAA receives which is not specifically designated as CBI will be placed in the public docket for this rulemaking.

Background

The European Union Aviation Safety Agency (EASA), which is the Technical Agent for the Member States of the European Union, has issued EASA AD 2025-0112-E, dated May 14, 2025 (referred to as “the MCAI”), to correct an unsafe condition on all DG Aviation GmbH Model DG-1000T powered sailplanes (gliders).

The MCAI states two occurrences were reported of propeller separation from DG Aviation GmbH Model DG-1000T gliders. In both reports, the rubber of the damper element sheared off completely. The investigation to determine the root cause is ongoing. This condition, if not detected and corrected, could lead to separation of the propeller, which could result in reduced or loss of control of the glider or the propeller impacting the glider, passengers in the glider, or people on the ground.

The MCAI prohibits use of the glider's powerplant and requires revising the glider flight manual and installing “Motor INOP” placards. The MCAI also provides removal of the powerplant as an acceptable alternative method of compliance.

You may examine the MCAI in the AD docket at regulations.gov under Docket No. FAA-2025-1119.

Material Incorporated by Reference Under 1 CFR Part 51

The FAA reviewed DG aviation GmbH Service Information No. 116-25, Issue 01.b, dated May 12, 2025. This material specifies procedures for revising the DG Aviation GmbH Model DG-1000T glider flight manual, emptying the fuel tank, and installing “Motor INOP” placards. This material is reasonably available because the interested parties have access to it through their normal course of business or by the means identified in the ADDRESSES section.

FAA's Determination

These products have been approved by the civil aviation authority of another country and are approved for operation in the United States. Pursuant to the FAA's bilateral agreement with this State of Design Authority, that authority has notified the FAA of the unsafe condition described in the MCAI referenced above. The FAA is issuing this AD after determining that the unsafe condition described previously is likely to exist or develop on other products of the same type design.

AD Requirements

This AD requires accomplishing the actions specified in the material already described, except as discussed under “Differences Between this AD and the Referenced Material.”

The owner/operator (pilot) holding at least a private pilot certificate may revise the existing glider flight manual and must enter compliance with the applicable paragraph of this AD into the glider maintenance records in accordance with 14 CFR 43.9(a) and 91.417(a)(2)(v). The pilot may perform this action because it only involves revising the flight manual. This action could be performed equally well by a pilot or a mechanic. This is an exception to the FAA's standard maintenance regulations.

Differences Between This AD and the Referenced Material

The service information specifies compliance before the next engine use, but this AD requires compliance within 3 days after the effective date of this AD.

Although the service information specifies emptying the fuel tank, this AD does not require this action because this action is not required to address the unsafe condition identified in this AD.

Interim Action

The FAA considers that this AD is an interim action. If final action is later identified, the FAA might consider further rulemaking.

Justification for Immediate Adoption and Determination of the Effective Date

Section 553(b) of the Administrative Procedure Act (APA) (5 U.S.C. 551 et seq.) authorizes agencies to dispense with notice and comment procedures for rules when the agency, for “good cause,” finds that those procedures are “impracticable, unnecessary, or contrary to the public interest.” Under this section, an agency, upon finding good cause, may issue a final rule without providing notice and seeking comment prior to issuance. Further, section 553(d) of the APA authorizes agencies to make rules effective in less than thirty days, upon the finding of good cause.

An unsafe condition exists that requires the immediate adoption of this AD without providing an opportunity for public comments prior to adoption. The FAA has found that the risk to the flying public justifies forgoing notice and comment prior to adoption of this rule because the propeller separating from the glider could damage the aircraft structure and result in reduced control of the glider. Additionally, the corrective actions to prohibit operating the glider using the powerplant must be accomplished within 3 days after the effective date of this AD. Accordingly, notice and opportunity for prior public comment are impracticable and contrary to the public interest pursuant to 5 U.S.C. 553(b).

In addition, the FAA finds that good cause exists pursuant to 5 U.S.C. 553(d) for making this amendment effective in less than 30 days, for the same reasons the FAA found good cause to forgo notice and comment.

Regulatory Flexibility Act

The requirements of the Regulatory Flexibility Act (RFA) do not apply when an agency finds good cause pursuant to 5 U.S.C. 553 to adopt a rule without prior notice and comment. Because the FAA has determined that it has good cause to adopt this rule without prior notice and comment, RFA analysis is not required.

Costs of Compliance

The FAA estimates that this AD affects 2 gliders of U.S. registry.

The FAA estimates the following costs to comply with this AD:

Estimated Costs
Action | Labor cost | Parts cost | Cost per product | Cost on U.S. operators
Revise glider flight manual | 1 work-hour × $85 per hour = $85 | $0 | $85 | $170
Fabricate and install placards | 1 work-hour × $85 per hour = $85 | 35 | 120 | 240

Authority for This Rulemaking

Title 49 of the United States Code specifies the FAA's authority to issue rules on aviation safety. Subtitle I, section 106, describes the authority of the FAA Administrator. Subtitle VII: Aviation Programs describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866, and

(2) Will not affect intrastate aviation in Alaska.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2025-13-08 DG Aviation GmbH (Type Certificate Previously Held by DG Flugzeugbau GmbH): Amendment 39-23074; Docket No. FAA-2025-1119; Project Identifier MCAI-2025-00914-G.

(a) Effective Date

This airworthiness directive (AD) is effective July 25, 2025.

(b) Affected ADs

None.

(c) Applicability

This AD applies to DG Aviation GmbH (type certificate previously held by DG Flugzeugbau GmbH) Model DG-1000T gliders, certificated in any category.

(d) Subject

Joint Aircraft System Component (JASC) Code 7100, Powerplant System.

(e) Unsafe Condition

This AD was prompted by reports of propeller separation. The FAA is issuing this AD to detect and address failure of a propeller. The unsafe condition, if not addressed, could lead to separation of the propeller, which could result in reduced or loss of control of the glider or the propeller impacting the glider, passengers in the glider, or people on the ground.

(f) Compliance

Comply with this AD within the compliance times specified, unless already done.

(g) Required Actions

Within 3 days after the effective date of this AD, comply with either paragraph (g)(1) or (2) of this AD.

(1) Revise the flight manual for your glider and install “Motor INOP” placards in accordance with paragraphs 1 and 3 of the Instructions in DG aviation GmbH Service Information No. 116-25, Issue 01.b, dated May 12, 2025. The owner/operator (pilot) holding at least a private pilot certificate may revise the existing flight manual and must enter compliance with the applicable paragraph of this AD into the glider maintenance records in accordance with 14 CFR 43.9(a) and 91.417(a)(2)(v). The record must be maintained as required by 14 CFR 91.417, 121.380, or 135.439.

(2) Remove the powerplant from the glider.

(h) Credit for Previous Actions

This paragraph provides credit for the actions required by paragraph (g)(1) of this AD, if those actions were performed before the effective date of this AD using DG aviation GmbH Service Information No. 116-25, Doc No. SI 116-25 FE-30-01, Issue 01.a, dated May 5, 2025.

(i) Special Flight Permits

Special flight permits are prohibited.

(j) Alternative Methods of Compliance (AMOCs)

The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (k) of this AD and email to: AMOC@faa.gov. Before using any approved AMOC, notify your appropriate principal inspector, or lacking a principal inspector, the manager of the local flight standards district office/certificate holding district office.

(k) Additional Information

For more information about this AD, contact Dan McCully, Aviation Safety Engineer, FAA, 1600 Stewart Avenue, Suite 410, Westbury, NY 11590; phone: (404) 474-5548; email: william.mccully@faa.gov.

(l) Material Incorporated by Reference

(1) The Director of the Federal Register approved the incorporation by reference of the material listed in this paragraph under 5 U.S.C. 552(a) and 1 CFR part 51.

(2) You must use this material as applicable to do the actions required by this AD, unless the AD specifies otherwise.

(i) DG aviation GmbH Service Information No. 116-25, Issue 01.b, dated May 12, 2025.

(ii) [Reserved]

(3) For DG Aviation GmbH material identified in this AD, contact DG Aviation GmbH, Rita Rodrigues, Otto Lilienthal Weg 2/Am Flugplatz, Bruchsal, Germany; phone: +49 (0) 7251 36660-32; email: rodrigues@dg-aviation.de; website: https://www.dg-aviation.de/en/dg-flugzeugbau/contact.

(4) You may view this material at the FAA, Airworthiness Products Section, Operational Safety Branch, 901 Locust, Kansas City, MO 64106. For information on the availability of this material at the FAA, call (817) 222-5110.

(5) You may view this material at the National Archives and Records Administration (NARA). For information on the availability of this material at NARA, visit www.archives.gov/federal-register/cfr/ibr-locations or email fr.inspection@nara.gov.

Issued on June 27, 2025.
Steven W. Thompson,
Acting Deputy Director, Compliance & Airworthiness Division, Aircraft Certification Service.

[FR Doc. 2025-12875 Filed 7-8-25; 4:15 pm]

BILLING CODE 4910-13-P